FEDERAL COMMUNICATIONS COMMISSION

[DA 06-1748]

LPTV and TV Translator Digital Companion Channel Applications Non-Mutually Exclusive Proposals

AGENCY: Federal Communications Commission.

ACTION: Notice.

SUMMARY: In this document, the Media Bureau and Wireless Telecommunications Bureau (Bureaus) announce processing procedures for singleton proposals for digital companion channels. The parties listed in the Attachment A to the Public Notice must submit a complete FCC Form 346 following the procedures set forth in the Public Notice.

DATES: The deadline for submitting FCC Form 346 is October 30, 2006.

FOR FURTHER INFORMATION CONTACT: Shaun Maher of the Video Division, Media Bureau, at (202) 418-1600.

SUPPLEMENTARY INFORMATION: On April 20, 2006, the Media Bureau and Wireless Telecommunications Bureau (Bureaus) announced a filing window for certain low power television (LPTV) and television translator stations to submit proposals for digital companion channels. In the Public Notice, the Video Division of the Media Bureau provided a list of all proposals received during the filing window that are not mutually exclusive with any other proposal submitted in the filing window. Since these proposals are not mutually exclusive with any other proposal (and are therefore deemed “singletons”), they will not be subject to the Commission's auction procedures. In the Public Notice, the Video Division announced processing procedures for these singleton proposals. The parties listed in the Attachment A to the Public Notice must submit an FCC Form 346 by October 30, 2006. Applications must be filed electronically and paper-filed applications will not be accepted. Complete instructions for filing the FCC Form 346 were included in the Public Notice.

In addition, the Public Notice reminded applicants proposing digital companion channels on channels 52-59 that they must certify in their long form application the unavailability of any suitable in-core channel. “Suitable in-core channel” is defined as one that would enable the station to produce a digital service area comparable to its analog service area.

In addition, § 74.786(d) of the Commission's rules provides that applicants proposing digital companion channels on channels 52-59 must notify all potentially affected 700 MHz band wireless licensees of the spectrum comprising the proposed TV channel and the spectrum in the first adjacent channels thereto not later than 30 days prior to the submission of their long form application. Specifically, notification is required to wireless licensees within whose licensed geographic boundaries a digital LPTV or TV translator station is proposed to be located. Notification is also required to co-channel and first adjacent channel licensees whose geographic service area boundaries lie within 75 miles and 50 miles, respectively, of the proposed digital LPTV and TV translator station location. The application filing deadline has been extended an additional 30 days to permit additional time for this notification. The identity and contact information for all wireless entities in the 700 MHz band is available through the Universal Licensing System (ULS) on the Commission Web site (http://www.fcc.gov).

Federal Communications Commission.
Barbara Kreisman,
Chief, Video Division, Media Bureau.

[FR Doc. E6-17976 Filed 10-25-06; 8:45 am]

BILLING CODE 6712-01-P